DEPARTMENT OF ENERGY

Federal Energy Regulatory Commission

[Docket Nos. RP97-369-015 and RP98-54-031]

Colorado Interstate Gas Company; Notice of Refund Report

May 25, 2000.

Take notice that on May 18, 2000, Colorado Interstate Gas Company (CIG) tendered for filing its third annual refund report in Docket Nos. RP97-369 and RP98-54.

CIG states that this filing and refunds were made to comply with the Commission's order of September 10, 1997. CIG states that refunds were paid by CIG on May 1, 1998 and June 10, 1998.

CIG states that the May 18, 2000, refund report summarizes the refunds made as of that date by CIG for Kansas ad valorem tax overpayments, pursuant to the Commission's September 10, 1997, Order. CIG asserts that no lump sum cash refunds were made by CIG to its former jurisdictional sales customers since its second annual refund report filed in 1999. Instances where payment has not been made within thirty days of receipt from the producers, appropriate interest will be computed as provided for in the order.

CIG states that copies of the filing have been served on CIG's former jurisdictional sales customers, interested states' commissions and all parties to the proceedings.

Any person desiring to protest said filing should file a protest with the Federal Energy Regulatory Commission, 888 First Street, NE, Washington, DC 20426, in accordance with Section 385.211 of the Commission's Rules and Regulations. All such protests must be filed on or before June 1, 2000. Protests will be considered by the Commission in determining the appropriate action to be taken, but will not serve to make protestants parties to the proceedings. Copies of this filing are on file with the Commission and are available for public inspection in the Public Reference Room. This filing may be viewed on the web at http://www.ferc. fed.us/online/rims.htm (call 202-208-2222 for assistance).

Linwood A. Watson, Jr.,
Acting Secretary.

[FR Doc. 00-13624 Filed 5-31-00; 8:45 am]

BILLING CODE 6717-01-M